DEPARTMENT OF TRANSPORTATION

Federal Aviation Administration

14 CFR Part 39

[Docket No. FAA-2009-0018; Directorate Identifier 2009-NE-01-AD; Amendment 39-16044; AD 2009-21-07]

RIN 2120-AA64

Airworthiness Directives; General Electric Company CF6-80C2 Series Turbofan Engines; Correction

AGENCY: Federal Aviation Administration (FAA), Department of Transportation (DOT).

ACTION: Final rule; correction.

SUMMARY: The FAA is correcting airworthiness directive (AD) 2009-21-07, which published in the Federal Register. That AD applies to General Electric Company (GE) CF6-80C2 series turbofan engines with certain thrust reverser ballscrew gearbox assembly adjustable-length end actuators installed. The unsafe condition statement of “We are issuing this AD to prevent loss of asymmetric thrust and thrust control”, and rod-end part number “MS2124S06” in paragraph (j) are incorrect. This document corrects the unsafe condition statement and the part number. In all other respects, the original document remains the same.

DATES: Effective December 14, 2009.

FOR FURTHER INFORMATION CONTACT: Christopher J. Richards, Aerospace Engineer, Engine Certification Office, FAA, Engine & Propeller Directorate, 12 New England Executive Park, Burlington, MA 01803; e-mail: christopher.j.richards@faa.gov; telephone (781) 238-7133; fax (781) 238-7199.

SUPPLEMENTARY INFORMATION: On October 27, 2009 (74 FR 55126), we published a final rule AD, FR Doc. E9-24391, in the Federal Register. That AD applies to GE CF6-80C2 series turbofan engines with certain thrust reverser ballscrew gearbox assembly adjustable-length end actuators installed. We need to make the following corrections:

§ 39.13 [Corrected]

On page 55126, in the second column, in the last sentence of the Summary Section, “We are issuing this AD to prevent loss of asymmetric thrust and thrust control.” is corrected to read “We are issuing this AD to prevent asymmetric thrust and loss of thrust control.”

On page 55129, in the third column, in the last sentence of paragraph (d), “We are issuing this AD to prevent loss of asymmetric thrust and thrust control.” is corrected to read “We are issuing this AD to prevent asymmetric thrust and loss of thrust control.”

On page 55130, in the first column, in paragraph (j), in the third line, “MS2124S06” is corrected to read “MS21242S06.”

Issued in Burlington, Massachusetts, on December 4, 2009.
Peter A. White,
Assistant Manager, Engine and Propeller Directorate, Aircraft Certification Service.

[FR Doc. E9-29483 Filed 12-11-09; 8:45 am]

BILLING CODE 4910-13-P